DEPARTMENT OF HOMELAND SECURITY

Coast Guard

33 CFR Part 117

[USCG-2009-1025]

Drawbridge Operation Regulations; Jamaica Bay, New York, NY, Maintenance

AGENCY: Coast Guard, DHS.

ACTION: Notice of temporary deviation from regulations.

SUMMARY: The Commander, First Coast Guard District, has issued a temporary deviation from the regulation governing the operation of the Beach Channel Railroad Bridge at mile 6.7, across Jamaica Bay, at New York City, New York. Under this temporary deviation the Beach Channel Railroad Bridge may remain in the closed position for two weekends in December. This deviation is necessary to facilitate bridge maintenance repairs.

DATES: This deviation is effective from 12:15 a.m. on December 12, 2009 through 4:45 a.m. on December 21, 2009. It is necessary to repair the trunion pins immediately to ensure the safety of both the bridge and waterway users.

ADDRESSES: Documents mentioned in this preamble as being available in the docket are part of docket USCG-2009-1025 and are available online at http://www.regulations.gov, inserting USCG-2009-1025 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or e-mail Ms. Judy Leung-Yee, Project Officer, First Coast Guard District, telephone (212) 668-7165, judy.k.leung-yee@uscg.mil. If you have questions on viewing the docket, call Renee V. Wright, Program Manager, Docket Operations, telephone 202-366-9826.

SUPPLEMENTARY INFORMATION: The Beach Channel Railroad Bridge, across Jamaica Bay, mile 6.7, at New York, New York, has a vertical clearance in the closed position of 26 feet at mean high water and 31 feet at mean low water. The existing drawbridge operation regulations are listed at 33 CFR 117.795(c).

The waterway users consist of both commercial and recreational vessel traffic.

The owner of the bridge, New York City Transit Authority, requested a temporary deviation to facilitate maintenance repairs to the bridge trunnion pins.

Under this temporary deviation the Beach Channel Railroad Bridge will not open for the passage of vessel traffic from 12:15 a.m. on December 12, 2009 through 4:45 a.m. on December 14, 2009 and from 12:15 a.m. on December 19, 2009 through 4:45 a.m. on December 21, 2009.

In accordance with 33 CFR 117.35(e), the bridge must return to its regular operating schedule immediately at the end of the designated time period. This deviation from the operating regulations is authorized under 33 CFR 117.35.

Dated: December 7, 2009.
Gary Kassof,
Bridge Program Manager, First Coast Guard District.

[FR Doc. E9-29970 Filed 12-16-09; 8:45 am]

BILLING CODE 9110-04-P